DEPARTMENT OF THE TREASURY

Submission for OMB Review; Comment Request

January 7, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before February 13, 2002 to be assured of consideration.

Departmental Offices/Office of Procurement

OMB Number: 1505-0080.

Form Number: None.

Type of Review: Extension.

Title: Post-Contract Award Information.

Description: Information requested of contractors is specific to each contract and is required for Treasury to properly evaluate the progress made and/or management controls used by contractors providing supplies or services to the Government, and to determine contractors' compliance with the contracts, in order to protect the Government's interest.

Respondents: Business or other for-profit, Not-for-profit institutions.

Estimated Number of Respondents: 5,023.

Estimated Burden Hours Per Respondent: 14 hours, 46 minutes.

Frequency of Response: On occasion.

Estimated Total Reporting Burden: 70,493 hours.

OMB Number: 1505-0081.

Form Number: None.

Type of Review: Extension.

Title: Solicitation of Proposal Information for Award of Public Contracts.

Description: Information requested of offerors is specific to each procurement solicitation, and is required to properly evaluate the capabilities and experience of potential contractors who desire to provide the supplies or services to be acquired. Evaluation will be used to determine which proposals most benefit the Government.

Respondents: Business or other for-profit, Not-for-profit institutions.

Estimated Number of Respondents: 26,338.

Estimated Burden Hours Per Respondent: 31 hours, 2 minutes.

Frequency of Response: On occasion.

Estimated Total Reporting Burden: 776,561 hours.

OMB Number: 1505-0107.

Form Number: None.

Type of Review: Extension.

Title: Regulation on Agency Protests.

Description: Information is requested of contractors so that the Government will be able to evaluate protests effectively and provide prompt resolution of issues in dispute when contractors file protests.

Respondents: Business or other for-profit, Not-for-profit institutions.

Estimated Number of Respondents: 17.

Estimated Burden Hours Per Respondent: 2 hours.

Frequency of Response: On occasion.

Estimated Total Reporting Burden: 34 hours.

Clearance Officer: Lois K. Holland, (202) 622-1563, Departmental Offices, Room 2110, 1425 New York Avenue, NW., Washington, DC 20220.

OMB Reviewer: Alexander T. Hunt, (202) 395-7860, Office of Management and Budget, Room 10202, New Executive Office Building, Washington, DC 20503.

Lois K. Holland,
Departmental Reports, Management Officer.

[FR Doc. 02-874 Filed 1-11-02; 8:45 am]

BILLING CODE 4810-25-U